OFFICE OF THE UNITED STATES TRADE REPRESENTATIVE

[Docket No. WTO/DS-214]

WTO Consultations Regarding U.S. Safeguard Measures on Line Pipe and Wire Rod

AGENCY: Office of the United States Trade Representative.

ACTION: Notice, request for comments.

SUMMARY: The Office of the United States Trade Representative (USTR) is providing notice that on December 1, 2000, the European Communities (EC) requested WTO consultations with the United States regarding Sections 201 and 202 of the Trade Act of 1974, section 311 of the NAFTA Implementation Act, and the U.S. safeguard measures on imports of line pipe and wire rod. USTR invites written comments from the public concerning the issues raised in this dispute.

DATES: Although the USTR will accept any comments received during the course of the dispute settlement proceedings, comments should be submitted on or before January 15, 2001 to be assured of timely consideration by USTR.

ADDRESSES: Submit comments to Sandy McKinzy, Monitoring and Enforcement Unit, Office of the General Counsel, Room 122 Office of the United States Trade Representative, 600 17th Street, N.W., Washington, D.C., 20508, Attn: EC Line Pipe and Wire Rod Dispute. Telephone: (202) 395-3582.

FOR FURTHER INFORMATION CONTACT: David J. Ross, Associate General Counsel, Office of the United States Trade Representative, 600 17th Street, NW., Washington, DC, (202) 395-3581.

SUPPLEMENTARY INFORMATION: Section 127(b) of the Uruguay Round Agreements Act (URAA) (19 U.S.C. 3537(b)(1)) requires that notice and opportunity for comment be provided after the United States submits or receives a request for the establishment of a WTO dispute settlement panel. Consistent with this obligation, but in an effort to provide additional opportunity for comments, USTR is providing notice that consultations have been requested pursuant to the WTO Dispute Settlement Understanding. If such consultations should fail to resolve the matter and a dispute settlement panel is established pursuant to the DSU, such panel, which would hold its meetings in Geneva, Switzerland, would be expected to issue a report on its findings and recommendations within six to nine months after it is established.

Major Issues Raised by the European Commission

The EC claims that sections 201 and 202 of the Trade Act of 1974 (19 U.S.C. 2251 and 2252) contain provisions relating to the determination of a causal link between increased imports and injury or threat thereof which prevent the United States from respecting Articles 4 and 5 of the WTO Agreement on Safeguards (Safeguards Agreement). It also claims that section 311 of the NAFTA Implementation Act (19 U.S.C. 3371) contains provisions concerning imports from Canada an Mexico which do not respect what it characterizes as the “requirement of parallelism” between the imported products subject to a safeguard investigation and the imported products subject to a safeguard measure, contrary to Articles 2, 4 and 5 of the Safeguards Agreement. The EC claims that these provisions are also inconsistent with the Most-Favoured-Nation principle of Article I of the GATT 1994.

In addition, the EC challenges certain aspects of the U.S. safeguard investigations and imposition of measures on imports of line pipe and wire rod. The EC claims that the U.S. measures are inconsistent with the following provisions of the Safeguards Agreement and the GATT 1994:

• “Article 2 SA, because, inter alia, they are based on deficient determination on the like or directly competitive products, absence of ‘imports in such increased quantities’ and/or ‘under such conditions’, lack of serious injury or threat thereof, lack of causality and non-respect of the requirement of parallelism between the scope of the imported products subject to the investigation and the scope of the imported products subject to the application of the measures;

• Article 3(1) and 3(2) SA, because, inter alia, they do not adequately set forth the findings and reasoned conclusions on all pertinent issues of fact and law, including the justification for the actual measure imposed, as well as abusive recourse to confidentiality in relation to disclosure of information;

• Articles 4(1) and 4(2) SA, because, inter alia, they are not justified by ‘imports in such increased quantities’ and/or ‘under such conditions’, lack of serious injury or threat thereof, lack of causality and non-respect of the requirement of parallelism between the scope of the imported products subject to the investigation and the scope of the imported products subject to the application of the measures;

• Article 5(1) SA, since, inter alia, they grant relief beyond ‘the extent necessary to prevent or remedy serious injury and to facilitate adjustment’;

• Article 8(1) SA, because of, inter alia, non-respect of the requirements regarding the level of concessions and other obligations and the trade compensation;

• Articles 12(2), 12(3) and 12(11) SA, because of, inter alia, non-respect of the obligation to provide the Committee on Safeguards with all pertinent information, non-respect of the obligation to provide adequate opportunity for prior consultations with a view to reaching an understanding on ways to achieve the objective set out in Article 8(1) SA, and abusive recourse to confidentiality in relation to disclosure of information;

• Article I:1 of GATT 1994 since, inter alia, the safeguard measure discriminates between products originating in the EC and products originating in other WTO countries; and

• Article XIX:1 of GATT 1994, because, inter alia, they fail to show, prior to the application of the measures, that the increases in imports and the conditions of importation of the products covered by each of the two above-mentioned measures were the result of ‘unforeseen developments’ and of the effect of the USA obligations under GATT 1994.”

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy, and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, NW., Washington, DC 20508. The public file will include a listing of any comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket WTO/DS-214, EC Line Pipe and Wire Rod Dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 00-32822 Filed 12-22-00; 8:45 am]

BILLING CODE 3190-01-U